DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 23, 2005.

Interested persons are invited to submit written comments regarding the subject matter of the investigations to the Director, Division of Trade Adjustment Assistance, at the address shown below, not later than October 23, 2005.

The petitions filed in this case are available for inspection at the Office of the Director, Division of Trade Adjustment Assistance, Employment and Training Administration, U.S. Department of Labor, Room C-5311, 200 Constitution Avenue, NW., Washington, DC 20210.

Signed at Washington, DC this 6th day of October 2005.
Terrance Clark,
Director, Division of Trade Adjustment Assistance.

Appendix
[TAA petitions instituted between 9/19/05 and 9/23/05]
TA-W | Subject firm (petitioners) | Location | Date of institution | Date of petition
57979 | Eaton Corp. (Wkrs) | Marshall, MI | 09/19/05 | 09/16/05
57980 | Collins Supply and Equipment Co., Inc. (Comp) | Scranton, PA | 09/19/05 | 09/15/05
57981 | Arvin Merritor, Inc. (Comp) | Chickasha, OK | 09/19/05 | 09/16/05
57982 | Powder Processing and Technology, LLC (Comp) | Valparaiso, IN | 09/19/05 | 09/16/05
57983 | SKF Sealing Solutions (Comp) | Springfield, SD | 09/20/05 | 09/16/05
57984 | Sipex Corporation (Comp) | Milpitas, CA | 09/20/05 | 09/19/05
57985 | Carroll Leather (Comp) | El Paso, TX | 09/20/05 | 09/19/05
57986 | Bravo Sports (State) | Cypress, CA | 09/20/05 | 09/19/05
57987 | Sun Chemical (Wkrs) | Cincinnati, OH | 09/20/05 | 09/12/05
57988 | Express Point Tech (State) | Golden Valley, MN | 09/20/05 | 09/19/05
57989 | Wasley Products, Inc. (Comp) | Plainville, CT | 09/20/05 | 09/16/05
57990 | Sun Look Garment, Inc. (Wkrs) | San Francisco, CA | 09/21/05 | 09/20/05
57991 | Med-Data (Wkrs) | Salem, OR | 09/21/05 | 09/12/05
57992 | Radicispandex (Wkrs) | Gastonia, NC | 09/21/05 | 09/19/05
57993 | Solectron (Comp) | Hillsboro, OR | 09/21/05 | 09/19/05
57994 | Johnnie Overstreet (Comp) | Marrero, LA | 09/21/05 | 09/16/05
57995 | Hostman-Steinberg (Comp) | Pittsburgh, PA | 09/21/05 | 09/19/05
57996 | Beverage-Air (Comp) | Spartanburg, SC | 09/21/05 | 09/20/05
57997 | Unifi, Inc. (Comp) | Mayodan, NC | 09/21/05 | 09/15/05
57998 | Allied Industries Co. (Comp) | Beulaville, NC | 09/21/05 | 09/12/05
57999 | Culp, Inc. (Wkrs) | Graham, NC | 09/21/05 | 09/15/05
58000 | Drexel Heritage Furniture (Wkrs) | Morganton, NC | 09/21/05 | 09/14/05
58001 | Lea Industries (Comp) | Morristown, TN | 09/22/05 | 09/16/05
58002 | Mid Continent Nail (State) | Springdale, AR | 09/22/05 | 09/21/05
58003 | Alyeska Pipeline Service Company (Comp) | Anchorage, AK | 09/22/05 | 09/20/05
58004 | Pebb Mfg. Co., Inc. (Wkrs) | Mifflintown, PA | 09/22/05 | 09/15/05
58005 | Fairfield Textile Corp. (State) | Paterson, NJ | 09/22/05 | 09/21/05
58006 | Baldwin Hardware (Wkrs) | Reading, PA | 09/22/05 | 09/09/05
58007 | West Coast Quartz (State) | Union City, CA | 09/22/05 | 09/14/05
58008 | Inman Mills (Wkrs) | Enoree, SC | 09/22/05 | 09/21/05
58009 | Schuessler Knitting Mills, Inc. (Comp) | Chicago, IL | 09/22/05 | 09/01/05
58010 | Holland American Wafer Co. (Wkrs) | Grand Rapids, MI | 09/23/05 | 09/22/05
58011 | Cherry Corporation (Wkrs) | Pleasant Prairie, WI | 09/23/05 | 09/22/05
58012 | Grover Industries, Inc. (Comp) | Grover, NC | 09/23/05 | 09/22/05
58012A | Grover Industries, Inc. (Comp) | Lynn, NC | 09/23/05 | 09/22/05
58013 | Spectrum Yarns, Inc. (Comp) | Kings Mountain, NC | 09/23/05 | 09/19/05
58014 | Kern Manufacturing (Wkrs) | Enfield, IL | 09/23/05 | 09/22/05
58015 | Techneglas, Inc. (Comp) | Pittston, PA | 09/23/05 | 09/23/05
58016 | Child Craft Industries, Inc. (Comp) | New Salisbury, IN | 09/23/05 | 09/12/05
58017 | GE Financial Assurance (Wkrs) | Schaumburg, IL | 09/23/05 | 09/19/05
58018 | Miralba, Inc. (Comp) | New York City, NY | 09/23/05 | 09/13/05
58019 | Aradian Corporation (Comp) | San Diego, CA | 09/23/05 | 09/09/05
58020 | Southwest Cupid (Comp) | Blackwell, OK | 09/23/05 | 09/01/05
58021 | Victaulic Apex Facility (Wkrs) | New Village, NJ | 09/23/05 | 09/16/05

[FR Doc. E5-5616 Filed 10-12-05; 8:45 am]

BILLING CODE 4510-30-P